DEPARTMENT OF THE TREASURY

Submission for OMB Review; Comment Request

March 11, 2015.

The Department of the Treasury will submit the following information collection request to the Office of Management and Budget (OMB) for review and clearance in accordance with the Paperwork Reduction Act of 1995, Public Law 104-13, on or after the date of publication of this notice.

DATES: Comments should be received on or before April 16, 2015 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Departmental Offices (DO)

OMB Number: 1505-XXXX.

Type of Review: New Collection.

Title: Focus Groups on College Decision Making.

Abstract: The U.S. Department of the Treasury requests OMB approval of an information collection instrument to be used at approximately six focus groups involving a total of approximately 18-30 students and their parents at three high schools in the spring of 2015. Treasury and its research team will use insights gleaned from the focus groups as it designs further research on the effectiveness of providing high school students and their parents with information about college choices and options, specifically about quality and cost issues.

Affected Public: Individuals.

Estimated Total Burden Hours: 30.

Robert Dahl,
Treasury PRA Clearance Officer.

[FR Doc. 2015-06005 Filed 3-16-15; 8:45 am]

BILLING CODE 4810-25-P